DEPARTMENT OF THE INTERIOR

Bureau of Land Management

[NV-930-1430-ET; NVN-78993, 4-08807]

Notice of Proposed Withdrawal and Opportunity for Public Meeting; Nevada

AGENCY: Bureau of Land Management, Interior.

ACTION: Notice.

SUMMARY: The Department of Veterans Affairs (VA) has asked the Secretary of the Interior to transfer jurisdiction of 154.70 acres of public land within Clark County, Nevada, to the Department of Veterans Affairs for a period of 20 years the land to be dedicated to the use of the VA for a medical center.

DATES: Comments and requests for a public meeting must be received by December 27, 2004.

ADDRESSES: Comments and meeting requests should be submitted in writing to the Bureau of Land Management (BLM), Nevada State Director, P.O. Box 12000, Reno, Nevada 89520-0006.

FOR FURTHER INFORMATION CONTACT: Dennis Samuelson, Bureau of Land Management, Nevada State Office, 775-861-6532.

SUPPLEMENTARY INFORMATION: The Department of Veterans Affairs has filed an application to withdraw, reserve and transfer jurisdiction over the following described land from the Department of the Interior (Interior) to the VA:

Mount Diablo Meridian

T. 19 S., R. 62 E.,

Sec. 19, lots 2 and 3, SE¼NW¼ and NE¼SW¼.

The area described contains 154.70 acres in Clark County.

The above-described public land also is located within the city limits of the City of North Las Vegas, Nevada. The purpose of the proposed withdrawal, reservation and transfer of jurisdiction (hereinafter the “withdrawal”) is to allow the VA to construct, operate and maintain a medical center, including a hospital, an outpatient clinic and a nursing home for the care of veterans of the United States armed forces. The term of the proposed withdrawal would be for 20 years and, in the future, the withdrawal could be renewed for the like terms if, when a renewal is requested, it is determined by Interior that the same need for the land as a VA medical center continues to exist.

Currently the above-described public land is subject to a protective withdrawal established pursuant to section 4 (c) of Pub. L. 105-263, as amended. Consequently, there is no need to segregate the above-described land from the operation of the general land laws while BLM processes the VA withdrawal application; and, therefore, this notice does not specify a segregation period.

All persons who wish to submit written comments, including suggestions, or objections in connection with the proposed withdrawal may submit their views by mail in writing to the BLM, Nevada State Director at the address listed above by December 27, 2004. Letters must be post-marked within the 90-day period.

The application and case file for the proposed withdrawal and relevant comments, including names and street addresses of respondents, will be available for public review at the Nevada State Office, 1340 Financial Boulevard, Reno, Nevada, during regular business hours, 7:30 a.m. to 4:30 p.m., Monday through Friday, except holidays. Individual respondents may request confidentiality. If you wish to withhold your name or address from public review or from disclosure under the Freedom of Information Act, you must state this prominently at the beginning of your comments. Such requests will be honored to the extent allowed by law. All submissions from organizations or businesses, and from individuals identifying themselves as representatives or officials of organizations or businesses, will be made available for public inspection in their entirety.

Notice is hereby given that an opportunity for a public meeting is afforded in connection with the proposed withdrawal. All interested persons who desire a public meeting for the purpose of being heard on the proposed withdrawal should submit a written request to the Nevada State Director by December 27, 2004. If the authorized officer determines that a public meeting will be held, a notice of the time and place will be published in the Federal Register at least 30 days before the scheduled date of the meeting.

This proposed withdrawal will be processed in accordance with the regulations set forth in 43 CFR part 2300.

Licenses, permits, cooperative agreements, or discretionary land use authorizations of a temporary nature which will not significantly conflict with the proposed use may be allowed with the approval of the BLM authorized officer.

(Authority: 43 U.S.C. 1714(b)(1))

Dated: August 26, 2004.
Jim Stobaugh,
Lands Team Lead.

[FR Doc. 04-21571 Filed 9-27-04; 8:45 am]

BILLING CODE 4310-HC-P